DEPARTMENT OF HOMELAND SECURITY

Coast Guard

33 CFR Part 117

[Docket No. USCG-2016-0384]

Drawbridge Operation Regulation; Grassy Sound Channel, Middle Township, NJ

AGENCY: Coast Guard, DHS.

ACTION: Notice of deviation from drawbridge regulation.

SUMMARY: The Coast Guard has issued a temporary deviation from the operating schedule that governs the Grassy Sound Channel Bridge (West Ocean Drive/CR619) across the Grassy Sound Channel, mile 1.0, at Middle Township, NJ. This deviation is necessary to provide for the safety of runners during “The Wild Half” annual half marathon. This deviation allows the bridge to remain in the closed-to-navigation position.

DATES: This deviation is effective from 7:30 a.m. to 11 a.m. on May 15, 2016.

ADDRESSES: The docket for this deviation, [USCG-2016-0384] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: The Cape May County, Department of Public Works, that owns and operates the Grassy Sound Channel Bridge, has requested a temporary deviation from the current operating regulations to provide for the safety of runners during “The Wild Half” annual half marathon event. The bridge is a bascule draw bridge and has a vertical clearance in the closed position of 15 feet above mean high water.

The current operating schedule is set out in 33 CFR 117.721. Under this temporary deviation, the bridge will remain in the closed-to-navigation position from 7:30 a.m. to 11 a.m. on May 15, 2016. The Coast Guard has carefully considered the nature and volume of vessel traffic on the waterway in publishing this temporary deviation.

Vessels able to safely pass through the bridge in the closed position may do so at any time. The bridge will be able to open for emergencies and the New Jersey Intracoastal Waterway is an alternate route for vessels transiting the area. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: May 10, 2016.
Hal R. Pitts,
Bridge Program Manager, Fifth Coast Guard District.

[FR Doc. 2016-11349 Filed 5-12-16; 8:45 am]

BILLING CODE 9110-04-P